FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants:

Omega Shipping (PL) Inc., 8710 NW 100 Street, Miami, FL 33178, Officers: Yigal Aviani, President (Qualifying Individual), Shimshon Benjamin, Vice President.

MSN Logistics Inc., 3 State Route 27, Suite 104, Edison, NJ 08820, Officers: Mubashar M. Butt, President (Qualifying Individual), Mohammed Sharice, Vice President.

Sino-USA Logistics, Inc., 11570 Wright Road, Lynwood, CA 90262, Officers: Andy King, CFO (Qualifying Individual), Andrew P. Wang, CEO.

Non-Vessel Operating Common Carrier and Ocean Freight Forwarder Transportation Intermediary Applicants:

Ioplus Logistics LLC, 10300 NW. 19 Street, Suite 104, Doral, FL 33172, Officers: Eduardo Jose Gutierrez, Ocean Manager (Qualifying Individual), Carlos Perez, General Manager.

New Horizon Shipping, Inc., 13 Chandon, Laguna Niguel, CA 92677, Officer: Gihan Zahran, CEO (Qualifying Individual).

Good News Logistics, Inc., 3018 Glendower Way, Roswell, GA 30075, Officers: Keun Kwang Lee, President (Qualifying Individual), Young Mee Lee, Vice President.

Windward Enterprises, Inc. dba International Cargo (West), 5343 W. Imperial Highway, Suite 700, Los Angeles, CA 90045, Officer: Roger Thomas Bernard Sanderson, President (Qualifying Individual).

GTS USA Inc. dba GTS, 580 Division Street, Elizabeth, NJ 07201, Officers: Jean-Francois Gueguen, President (Qualifying Individual), Christian Houart, Chairman.

Ocean Freight Forwarder Ocean Transportation Intermediary Applicants:

Overseas Cargo LLC, 347 Vine Street, Elizabeth, NJ 07202, Officer: Catherine Tello, President (Qualifying Individual).

Gate Way Cargo Systems, Inc., 11222 S. La Cienega Blvd., Suite 408, Inglewood, CA 90304, Officers: Christa Kupferschmidt, President (Qualifying Individual), Dirk Ravensteiner, Vice President.

Keene Machinery and Export, 2810 Goodnight Trail, Corinth, TX 76210, Karon Jones, Sole Proprietor.

Dated: September 29, 2006.
Bryant L. VanBrakle,
Secretary.

[FR Doc. E6-16394 Filed 10-3-06; 8:45 am]

BILLING CODE 6730-01-P